DEPARTMENT OF ENERGY

Federal Energy Regulatory Commission

[Project No. 2079-069]

Placer County Water Agency; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2079-069.

c. Date filed: February 23, 2011.

d. Applicant: Placer County Water Agency.

e. Name of Project: Middle Fork American River Project.

f. Location: The Middle Fork American River Project is located in Placer and El Dorado counties, almost entirely within the Tahoe and El Dorado National Forests. The existing project occupies 3,268 acres of federal lands administered by the U.S. Department of Agriculture—Forest Service.

g. Filed Pursuant to: Federal Power Act 16 U.S.C. 791 (a)—825(r).

h. Applicant Contact: Andy Fecko, Project Manager, Placer County Water Agency, 144 Ferguson Road, Auburn, CA 95603; Telephone: (530) 823-4490.

i. FERC Contact: Carolyn Templeton, (202) 502-8785 or carolyn.templeton@ferc.gov.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now is ready for environmental analysis.

l. The Project Description: The Middle Fork American River Project (project) has two principal water storage reservoirs, French Meadows and Hell Hole. These reservoirs are located on the Middle Fork American River and the Rubicon River, respectively, and have a combined gross storage capacity of 342,583 acre-feet (ac-ft).

Starting at the highest elevation of the project, water is diverted from Duncan Creek at the Duncan Creek diversion and routed through the 1.5-mile-long Duncan Creek-Middle Fork tunnel into French Meadows reservoir (134,993 ac-ft of gross storage).

Flows in the Middle Fork American River are captured and stored in French Meadows reservoir along with diversions from Duncan Creek. From French Meadows reservoir, water is transported via the 2.6-mile-long French Meadows-Hell Hole tunnel, passed through the French Meadows powerhouse [installed generating capacity of 15.3 megawatts (MW)], and released into Hell Hole reservoir (207,590 ac-ft of gross storage). Flows in the Rubicon River are captured and stored in Hell Hole reservoir along with water released from French Meadows reservoir through French Meadows powerhouse. Water released from Hell Hole reservoir into the Rubicon River to meet instream flow requirements first pass through the Hell Hole powerhouse (installed generating capacity of 0.73 MW), which is located at the base of Hell Hole dam.

From Hell Hole reservoir, water is also transported via the 10.4-mile-long Hell Hole-Middle Fork tunnel, passed through the Middle Fork powerhouse (installed generating capacity of 122.4 MW), and released into the Middle Fork Interbay (175 ac-ft of gross storage). Between Hell Hole reservoir and Middle Fork powerhouse, water is diverted from the North and South Forks of Long Canyon creeks directly into the Hell Hole-Middle Fork tunnel. Water diverted from these creeks into the Hell Hole-Middle Fork tunnel can either be stored in Hell Hole reservoir or be used to augment releases from Hell Hole reservoir to the Middle Fork powerhouse.

Flows from the Middle Fork American River (including instream flow releases from French Meadows reservoir) are captured at Middle Fork interbay along with water released from Hell Hole reservoir through Middle Fork powerhouse. From Middle Fork Interbay, water is transported via the 6.7-mile-long Middle Fork-Ralston tunnel, passed through the Ralston powerhouse (installed generating capacity of 79.2 MW), and released into the Ralston afterbay (2,782 ac-ft of gross storage).

Flows from the Middle Fork American River (including instream releases from Middle Fork interbay) and flows from the Rubicon River (including instream releases from Hell Hole reservoir) are captured in Ralston afterbay along with water transported from Middle Fork interbay through Ralston powerhouse. From Ralston afterbay, water is transported via the 400-foot-long Ralston-Oxbow tunnel, passed through the Oxbow powerhouse (installed generating capacity of 6.1 MW), and released from the project to the Middle Fork American River. The project has a total generation capacity of 224 MW.

The applicant proposes to modify the Duncan Creek, North Fork Long Canyon, and South Fork Long Canyon creeks to provide screening and modified outlets; increase the storage capacity of Hell Hole reservoir by adding 6-feet-tall crest gates; and provide additional flow gaging stations throughout the project.

m. Location of the Application: A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Filing of recommendations, preliminary terms and conditions, and preliminary fishway prescriptions | August 8, 2011.
Commission issues Draft EIS | February 2, 2012.
Comments on Draft EIS | April 2, 2012.
Modified Terms and Conditions | June 1, 2012.
Commission Issues Final EIS | August 30, 2012.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: June 7, 2011.
Kimberly D. Bose,
Secretary.

[FR Doc. 2011-14634 Filed 6-13-11; 8:45 am]

BILLING CODE 6717-01-P